POSTAL SERVICE

39 CFR Part 111

Bundling Flat-Size and Irregular Parcel Mail—Bundle Integrity

AGENCY: Postal Service.

ACTION: Proposed rule.

SUMMARY: The Postal Service proposes that mailers use two bands to secure all bundles of presorted rate flat-size mail and irregular parcels that are not shrinkwrapped. This proposal would remove the option to secure bundles up to 1 inch thick with only one band.

DATES: We must receive your comments on or before December 2, 2005.

ADDRESSES: Mail or deliver comments to the Manager, Mailing Standards, U.S. Postal Service, 475 L'Enfant Plaza SW., Rm. 3436, Washington, DC 20260-3436. You may inspect and photocopy all written comments between 9 a.m. and 4 p.m., Monday through Friday, at USPS Headquarters Library, 11th Floor North, 475 L'Enfant Plaza SW., Washington, DC 20260.

FOR FURTHER INFORMATION CONTACT: Bill Chatfield at 202-268-7278.

SUPPLEMENTARY INFORMATION: We are proposing a revision to Mailing Standards of the United States Postal Service, Domestic Mail Manual (DMM) that would require mailers to use at least two bands—one around the length and one around the girth—when only banding is used to secure bundles of flat-size and irregular parcel mailpieces.

“Bundle integrity”—the ability of bundles to remain intact—is crucial for our new, high-speed Automated Package Processing System (APPS). Bundles with only one band tend to curl up and allow mailpieces to escape the bundle. When these or other bundles break open, we lose the value of mailers' presort, and we have to handle individual pieces manually. Manual handling of mailpieces from broken or loose bundles results in delayed delivery and increases our processing costs.

Although we are exempt from the notice and comment requirements of the Administrative Procedure Act (5 U.S.C. of 553(b), (c)) regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

PART 111—[AMENDED]

1. The authority citation for 39 CFR Part 111 continues to read as follows:

Authority: 5 U.S.C. 552(a); 39 U.S.C. 101, 401, 403, 404, 3001-3011, 3201-3219, 3403-3406, 3621, 3626, 5001.

2. Amend the following sections of Mailing Standards of the United States Postal Service, Domestic Mail Manual (DMM) as explained below.

300 Discount Flats

* * * * *

330 First-Class Mail

* * * * *

335 Mail Preparation

* * * * *

2.0 Bundles

* * * * *

2.4 Securing Bundles

[Revise introductory text and items a, b, and c as follows; delete items d through f. Make these same changes to 345.2.4 (for Standard Mail flats), 365.2.4 (for Bound Printed Matter flats), 375.2.4 (for Media Mail flats), 385.2.4 (for Library Mail flats), 435.2.5 (for First-Class Mail parcels), 465.2.4 (for Bound Printed Matter parcels), 475.2.4 (for Media Mail parcels), 485.2.4 (for Library Mail parcels), 705.8.5.10 (for bundles on pallets), and 707.19.4 (for Periodicals).]

Mailers must meet the following standards when preparing and securing bundles.

a. Secure bundles with banding, shrinkwrap, or shrinkwrap supplemented with one or more bands. Banding includes plastic bands, rubber bands, twine, string, and similar material.

b. Mailers using only banding to secure bundles must meet the following conditions.

1. Use at least one band to encircle the length of the bundle and use at least one band to encircle the girth of the bundle.

2. Use tension sufficient to tighten and depress the edges of the bundle so pieces will not slip out of the banding during transit and processing.

3. Do not place any bands closer than 1 inch from any bundle edge.

4. When using twine or string to band bundles, secure the knot(s) so the banding does not come loose during transit and processing.

5. Do not use wire or metal banding.

6. Do not use any loose banding.

c. Bundles must withstand normal transit and handling without breaking and without causing injury to postal employees or damage to Postal Service equipment.

* * * * *

340 Standard Mail

* * * * *

345 Mail Preparation

* * * * *

2.0 Bundles

* * * * *

2.5 Preparing Bundles in Sacks

(Revise introductory text and item b as follows. Make these same changes in 707.19.8 (for Periodicals).)

Mailers must meet the following standards when preparing and securing bundles placed in sacks.

* * * * *

b. Secure bundles with at least two bands (plastic bands, rubber bands, twine, or string), one around the length and one around the girth. As options, secure bundles entirely with shrinkwrap, or with shrinkwrap plus one or two bands.

* * * * *

400 Discount Parcels

* * * * *

440 Standard Mail

* * * * *

445 Mail Preparation

* * * * *

2.0 Bundles

* * * * *

(Switch 2.5 and 2.4. Revise new 2.4 using the text in 335.2.4 above; revise new 2.5 using the text in 345.2.5 above.)

* * * * *

700 Special Standards

* * * * *

705 Advanced Preparation and Special Postage Payment Systems

* * * * *

8.0 Preparation for Pallets

* * * * *

8.5 General Preparation

* * * * *

(Revise title of 8.5.10 as follows.)

8.5.10 Securing Bundles on Pallets

(Replace text in 8.5.10 with text from new 335.2.4.)

(Delete 8.5.11; renumber 8.5.12 and 8.5.13 as new 8.5.11 and 8.5.12.)

* * * * *

We will publish an appropriate amendment to 39 CFR 111.3 if the proposal is adopted.

Neva R. Watson,
Attorney, Legislative.

[FR Doc. 05-21777 Filed 11-1-05; 8:45 am]

BILLING CODE 7710-12-P